DEPARTMENT OF DEFENSE

Office of the Secretary

Judicial Proceedings Since Fiscal Year 2012 Amendments Panel; Notice of Federal Advisory Committee Meeting

AGENCY: General Counsel of the Department of Defense, Department of Defense.

ACTION: Notice of Federal Advisory Committee meeting.

SUMMARY: The Department of Defense (DoD) is publishing this notice to announce that the following Federal Advisory Committee meeting of the Judicial Proceedings Since Fiscal Year 2012 Amendments Panel will take place.

DATES: Open to the public, Friday, May 19, 2017, from 9:00 a.m. to 4:15 p.m.

ADDRESSES: Holiday Inn Arlington at Ballston, 4610 N. Fairfax Drive, Arlington, Virginia 22203.

FOR FURTHER INFORMATION CONTACT: Maria Fried, 703-571-2664 (Voice), 703-693-3903 (Facsimile), whs.pentagon.em.mbx.judicial-panel@mail.mil (Email). Mailing address is One Liberty Center, 875 N. Randolph Street, Suite 150, Arlington, Virginia 22203. Web site: http://jpp.whs.mil/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. Materials provided to Panel members for use at the public meeting, may be obtained at the meeting or from the Panel's Web site.

Purpose of the Meeting: In section 576(a)(2) of the National Defense Authorization Act for Fiscal Year 2013 (Pub. L. 112-239), as amended, Congress tasked the Judicial Proceedings Panel to conduct an independent review and assessment of judicial proceedings conducted under the Uniform Code of Military Justice (UCMJ) involving adult sexual assault and related offenses since the amendments made to the UCMJ by section 541 of the National Defense Authorization Act for Fiscal Year 2012 (Pub. L. 112-81; 125 Stat. 1404), for the purpose of developing recommendations for improvements to such proceedings. At this meeting, the Panel will receive a presentation from the JPP Subcommittee on the Subcommittee's Report on Barriers to the Fair Administration of Military Justice in Sexual Assault Cases. The Panel will deliberate on the JPP sexual assault adjudication data for fiscal year 2015. The Panel will also deliberate on the JPP Report on Military Sexual Assault Investigations and the JPP Report on Victims' Appellate Rights.

Agenda: 8:30 a.m.-9:00 a.m. Administrative Work (41 CFR 102-3.160, not subject to notice & open meeting requirements); 9:00 a.m.-9:15 a.m. Welcome and Introduction; 9:15 a.m.-12:15 p.m. Presentation by the JPP Subcommittee of its Report on Barriers to the Fair Administration of Military Justice in Sexual Assault Cases; 12:15 p.m.-1:00 p.m. Lunch; 1:00 p.m.-2:00 p.m. Panel Deliberations on JPP Sexual Assault Adjudication Data for Fiscal Year 2015; 2:00 p.m.-3:00 p.m. Panel Deliberations on the JPP Report on Military Sexual Assault Investigations; 3:00 p.m.-4:00 p.m. Panel Deliberations on the JPP Report on Victims' Appellate Rights; 4:00 p.m.-4:15 p.m. Public Comment; 4:15 p.m. Meeting Adjourned.

Meeting Accessibility: Pursuant to 5 U.S.C. 552b and 41 CFR 102-3.140 through 102-3.165, and the availability of space, this meeting is open to the public. Seating is limited and is on a first-come basis. In the event the Office of Personnel Management closes the government due to inclement weather or for any other reason, please consult the Web site for any changes to the public meeting date or time. Individuals requiring special accommodations to access the public meeting should contact the Judicial Proceedings Panel at whs.pentagon.em.mbx.judicial-panel@mail.mil at least five (5) business days prior to the meeting so that appropriate arrangements can be made.

Written Statements: Pursuant to 41 CFR 102-3.140 and section 10(a)(3) of the Federal Advisory Committee Act of 1972, the public or interested organizations may submit written comments to the Panel about its mission and topics pertaining to this public session. Written comments must be received by the JPP at least five (5) business days prior to the meeting date so that they may be made available to the Judicial Proceedings Panel for their consideration prior to the meeting. Written comments should be submitted via email to the Judicial Proceedings Panel at whs.pentagon.em.mbx.judicial-panel@mail.mil in the following formats: Adobe Acrobat or Microsoft Word. Please note that since the Judicial Proceedings Panel operates under the provisions of the Federal Advisory Committee Act, as amended, all written comments will be treated as public documents and will be made available for public inspection. If members of the public are interested in making an oral statement pertaining to the agenda for the public meeting, a written statement must be submitted as above along with a request to provide an oral statement. After reviewing the written comments and the oral statement, the Chair and the Designated Federal Official will determine who will be permitted to make an oral presentation of their issue during the public comment portion of this meeting. This determination is at the sole discretion of the Chair and Designated Federal Official, will depend on the time available and relevance to the Panel's activities for that meeting, and will be on a first-come basis. When approved in advance, oral presentations by members of the public will be permitted from 4:00 p.m. to 4:15 p.m. on May 19, 2017, in front of the Panel members.

Dated: May 1, 2017.
Aaron Siegel,
Alternate OSD Federal Register Liaison Officer, Department of Defense.

[FR Doc. 2017-09071 Filed 5-4-17; 8:45 am]

BILLING CODE 5001-06-P